NATIONAL AERONAUTICS AND SPACE ADMINISTRATION

[Notice 04-064]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: May 18, 2004.

FOR FURTHER INFORMATION CONTACT: Kent N. Stone, Patent Counsel, Glenn Research Center at Lewis Field, Code 500-118, Cleveland, OH 44135; telephone (216) 433-8855; fax (216) 433-6790.

NASA Case No. LEW-17230-2: Compact Plasma Accelerator;

NASA Case No. LEW-17317-1: Process For Improving Properties Of Silicon Carbide (SiC) Fibers And SiC Fiber-Reinforced Ceramic Matrix Composites.

Dated: May 12, 2004.
Keith T. Sefton,
Chief of Staff, Office of the General Counsel.

[FR Doc. 04-11172 Filed 5-17-04; 8:45 am]

BILLING CODE 7510-01-P